DEPARTMENT OF COMMERCE

National Oceanic and Atmospheric Administration

[I.D. 051601E]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings June 4-11, 2001, in Kodiak, AK.

DATES: The Council’s Advisory Panel will begin at 8 a.m., Monday, June 4, and continue through Friday, June 8, 2001. The Scientific and Statistical Committee will begin at 8 a.m. on Monday, June 4, and continue through Wednesday, June 6.

The Council will begin their plenary session at 8 a.m. on Wednesday, June 6, continuing through Monday, June 11, 2001. All meetings are open to the public except executive sessions which may be held during the week at which the Council may discuss personnel issues and/or current litigation.

ADDRESSES: The Advisory Panel will meet at the Kodiak Elks Lodge, 102 Marine Way, Kodiak, AK.

The Scientific and Statistical Committee will meet at the Fishermen’s Hall, 503 Marine Way, Kodiak, AK.

The North Pacific Fishery Management Council will meet at the Best Western Kodiak Inn, 236 Rezanof West, Kodiak, AK.

Council address: North Pacific Fishery Management Council, 605 W. 4th Ave., Suite 306, Anchorage, AK 99501-2252.

FOR FURTHER INFORMATION CONTACT: Council staff, telephone: 907-271-2809.

SUPPLEMENTARY INFORMATION:

Council: The agenda for the Council’s plenary session will include the following issues. The Council may take appropriate action on any of the issues identified.

1. Reports:

(a) Executive Director's Report.

(b) State Fisheries Report by Alaska Dept. of Fish and Game.

(c) NMFS Management Report, including updates on halibut subsistence regulations, retention of demersal shelf rockfish, inshore/offshore regulations, and the salmon overfishing definition. (The Council may consider action or direction to staff on any of these subjects if necessary.)

(d) Enforcement and Surveillance reports by NMFS and the U.S. Coast Guard.

(e) Alaska Board of Fisheries Report on halibut local area management plans and halibut subsistence issues; direction to staff if required.

2. Steller sea lion (SSL) measures:

(a) Status reports on research funding, independent scientific review, and report from the Council committees on Reasonable and Prudent Alternatives.

(b) Finalize alternatives for analysis for 2002 fisheries management measures to mitigate fisheries impacts on Steller sea lions.

3. Bering Sea/Aleutian Islands crab rationalization: Review discussion paper on alternatives for analysis and provide direction to staff.

4. Essential Fish Habitat: Report on progress on public scoping meetings.

5. American Fisheries Act:

(a) Final action on a cooperative leasing proposal.

(b) Review and provide direction to staff on report to Congress.

(c) Provide comments on extension of emergency rule for 2001.

(d) Review industry proposal on bycatch measures.

6. Groundfish Programmatic Supplemental Environmental Impact Statement (SEIS): Review and comment to NMFS.

7. Community Purchase of Individual Fishing Quotas: Review discussion paper and industry proposal; provide direction to staff.

8. Community Development Quotas (CDQ): Receive report from CDQ Policy committee; provide direction to staff.

9. Gulf of Alaska Groundfish Rationalization: Review committee report; provide direction to staff.

10. Report on meeting of Regional Fishery Management Council chairmen and on reauthorization of the Magnuson-Stevens Fishery Management and Conservation Act.

11. Staff Tasking: Review current staff tasking and projects to be tasked; provide direction to staff.

Although other issues not contained in this agenda may come before this Council for discussion, in accordance with the Magnuson-Stevens Fishery Conservation and Management Act, those issues may not be the subject of formal Council action during this meeting. Council action will be restricted to those issues specifically identified in the agenda listed in this notice.

Advisory Meetings

Advisory Panel: The agenda for the Advisory Panel will mirror that of the Council listed above, with the exception of the reports under Item 1, and the reports under Item 10.

Scientific and Statistical Committee (SSC): The Scientific and Statistical Committee will address the following issues:

1. Steller sea lion measures listed under item 2 of the Council agenda noted above.

2. Bering Sea/Aleutian Island crab rationalization issues (item 3 on the Council agenda).

3. Essential Fish Habitat Issues (item 4 on the Council agenda).

4. American Fisheries Act Issues (item 5 on the Council agenda).

5. Groundfish Programmatic SEIS (item 6 on the Council agenda).

Other Committee and Workshop Meetings

Ecosystem Committee: The Council’s Ecosystem Committee will meet Tuesday evening, June 5, beginning at 6 p.m. at the Kodiak Inn. The Committee will discuss the Groundfish Programmatic SEIS and prepare comments for Council consideration.

Finance Committee: The Council’s Finance Committee is tentatively scheduled to meet during the noon hour on Sunday, June 10, to discuss budget issues.

Other committees and workgroups may hold impromptu meetings throughout the meeting week. Such meetings will be announced during regularly scheduled meetings of the Council, Advisory Panel, and SSC, and will be posted at the hotel.

Special Accommodations

These meetings are physically accessible to people with disabilities. Requests for sign language interpretation or other auxiliary aids should be directed to Helen Allen at 907-271-2809 at least 7 working days prior to the meeting date.

Dated: May 17, 2001.
Richard W. Surdi,
Acting Director, Office of Sustainable Fisheries, National Marine Fisheries Service.

[FR Doc. 01-12874 Filed 5-21-01; 8:45 am]

BILLING CODE 3510-22-S